NATIONAL AERONAUTICS AND SPACE ADMINISTRATION

[(09-048)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Jasmeet Seehra, Desk Officer for NASA, Office of Information and Regulatory Affairs, Room 10236, New Executive Office Building, Washington, DC 20503.

FOR FURTHER INFORMATION CONTACT: Requests for additional information or copies of the information collection instrument(s) and instructions should be directed to Dr. Walter Kit, PRA Clearance Officer, Office of the Chief Information Officer, NASA Headquarters, 300 E Street, SW., JF000, Washington, DC 20546, (202) 358-1350, walter.kit-1@nasa.gov.

SUPPLEMENTARY INFORMATION:

I. Abstract

This information collection is used to assess the contribution of NASA Small Business Innovation Research (SBIR) technology to the National Economy in accordance with the Government Performance and Results Act (GPRA).

II. Method of Collection

The survey will be electronic and is available on NASA's SBIR Web site at http://www.sbir.nasa.gov/SBIR/survey.html. Electronic submission of the subject information is available to 100% of all surveyed firms.

III. Data

Title: NASA Small Business Innovation Research Commercial Metrics.

OMB Number: 2700—0095.

Type of Review: Extension of a currently approved collection.

Affected Public: Business or other for-profit.

Estimated Number of Respondents: 1,000/once every 3 years.

Estimated Total Annual Burden Hours: 200.

Estimated Total Annual Cost: $11,000.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Walter Kit,
NASA Clearance Officer.

[FR Doc. E9-13989 Filed 6-12-09; 8:45 am]

BILLING CODE 7510-13-P